DEPARTMENT OF HEALTH AND HUMAN SERVICES

Centers for Disease Control and Prevention

[30DAY-43-00]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-7090. Send written comments to CDC, Desk Officer; Human Resources and Housing Branch, New Executive Office Building, Room 10235; Washington, DC 20503. Written comments should be received within 30 days of this notice.

Proposed Projects

1. Survery of Laboratory Practices for Mycobacterium tuberculosis Drug Susceptibility Testing in the U.S.—New—As part of the continuing effort to support public health objectives of treatment, disease prevention and surveillance programs, the Public Health Practice Program Office (PHPPO), Centers for Disease Control and Prevention (CDC) seeks to collect information from both public health and private sector laboratories performing drug susceptibility testing on Mycobacterium tuberculosis. Tuberculosis is a continuing public health problem in the United States despite declining case rates. Although public health efforts have brought multi drug resistant tuberculosis (MDRTB) under control, these MDRTB and other drug resistant isolates will continue to challenge laboratory support for TB control because of higher prevalence rates and potential for transmission in some segments of the U.S. population. To control this health problem, it is imperative that cases of tuberculosis are identified and placed on effective chemotherapy as quickly as possible. Information collected in the survey will be on test methods, drug concentrations, quality assurance, quality control and reporting practices. The survey will also collect information regarding the type of laboratories where testing is performed, the number of tests performed, testing for primary or secondary anti-tuberculosis drugs and turnaround time for reporting susceptibility test results to the clinician and public health programs. This survey will provide CDC with information to facilitate standard use of drugs and concentrations tested, interpretation of test results, and laboratory reports so that the information for the clinician is consistent regardless of the laboratory performing testing. This 25-question survey will be mailed to 200 laboratories which are directly involved in Mycobacterium tuberculosis susceptibility drug testing. The amount of time required for completion of the survey will be 30-45 minutes for each respondent. The only cost to the respondent is the time involved in completion of the survey. Results of the survey will be published in a peer-reviewed journal and shared at national meetings to encourage the adoption of standard practices. The estimated annualized burden for this project is 150 hours.

Respondents | Number of respondents | Number of responses/respondent | Average burden per response (in hours)
Laboratories | 200 | 1 | 45/60

Dated: June 8, 2000.
Nancy Cheal,
Acting Associate Director for Policy, Planning and Evaluation, Centers for Disease Control and Prevention (CDC).

[FR Doc. 00-15114 Filed 6-14-00; 8:45 am]

BILLING CODE 4163-18-P